DEPARTMENT OF COMMERCE

National Oceanic and Atmospheric Administration

[I.D. 082103B]

Endangered and Threatened Species; Take of Anadromous Fish

AGENCY: National Marine Fisheries Service (NMFS), National Oceanic and Atmospheric Administration (NOAA), Commerce.

ACTION: Notice of availability and request for comment.

SUMMARY: Notice is hereby given that the Oregon Department of Fish and Wildlife (ODFW) has submitted a Fisheries Management and Evaluation Plan (FMEP) pursuant to the protective regulations promulgated for Oregon Coast coho salmon under the Endangered Species Act (ESA). The FMEP proposes a fishery for coho salmon in Siltcoos and Tahkenitch Lakes, located along the Oregon Coast. This document serves to notify the public of the availability of the FMEP for review and comment before a final approval or disapproval is made by NMFS.

DATES: Written comments on the draft FMEPs must be received at the appropriate address or fax number (see ADDRESSES) no later than 5 p.m. Pacific daylight time on September 29, 2003.

ADDRESSES: Written comments and requests for copies of the draft FMEP should be addressed to Lance Kruzic, NMFS, 2900 NW Stewart Parkway, Roseburg, OR 97470 or faxed to (541) 957-3386. The document is also available on the internet at http://www.nwr.noaa.gov/. Comments will not be accepted if submitted via e-mail or the internet.

FOR FURTHER INFORMATION CONTACT: Lance Kruzic, Roseburg, OR, at phone number (541) 957-3381, or e-mail: lance.kruzic@noaa.gov.

SUPPLEMENTARY INFORMATION: This notice is relevant to the Oregon Coast coho salmon (Oncorhynchus kisutch) Evolutionarily Significant Unit (ESU).

Background

ODFW has submitted to NMFS an FMEP for a recreational fishery for coho salmon returning to Siltcoos and Tahkenitch Lakes, located south of Florence, Oregon, in years when returns of coho salmon are high and expected to exceed specified spawning escapement guidelines. The objectives of the FMEP are to provide some fishing opportunity in years when coho salmon returns are high and in a manner that does not affect the viability of the local coho population and the Oregon Coast ESU as a whole. The FMEP specifies the monitoring and evaluation tasks for the proposed fishery.

Authority

Under section 4 of the ESA, the Secretary of Commerce is required to adopt such regulations as he deems necessary and advisable for the conservation of species listed as threatened. The ESA salmon and steelhead 4(d) rule specifies categories of activities that contribute to the conservation of listed salmonids and sets out the criteria for such activities. The rule further provides that the prohibitions of paragraph (a) of the rule will not apply to activities associated with fishery harvest provided that those fisheries are managed in accordance with an FMEP that has been approved by NMFS and implemented in accordance with a letter of concurrence from NMFS.

As specified in § 223.203 (b)(4) of the ESA 4(d) Rule, NMFS may approve an FMEP if it ¶meets criteria set forth in § 223.203 (b)(4)(i)(A) through (I). Prior to final approval of an FMEP, NMFS must publish notification announcing its availability for public review and comment.

Dated: August 26, 2003.
Susan Pultz,
Acting Chief, Endangered Species Division, Office of Protected Resources, National Marine Fisheries Service.

[FR Doc. 03-22184 Filed 8-28-03; 8:45 am]

BILLING CODE 3510-22-S